DEPARTMENT OF TRANSPORTATION

Federal Motor Carrier Safety Administration

[Docket No. FMCSA-2025-0011]

Qualification of Drivers; Exemption Applications; Epilepsy and Seizure Disorders

AGENCY: Federal Motor Carrier Safety Administration (FMCSA), Department of Transportation (DOT).

ACTION: Notice of applications for exemption; request for comments.

SUMMARY: FMCSA announces receipt of applications from 35 individuals for an exemption from the prohibition in the Federal Motor Carrier Safety Regulations (FMCSRs) against persons with a clinical diagnosis of epilepsy or any other condition that is likely to cause a loss of consciousness or any loss of ability to control a commercial motor vehicle (CMV) to drive in interstate commerce. If granted, the exemptions would enable these individuals who have had one or more seizures and are taking anti-seizure medication to operate CMVs in interstate commerce.

DATES: Comments must be received on or before June 4, 2025.

ADDRESSES: You may submit comments identified by the Federal Docket Management System Docket No. FMCSA-2025-0011 using any of the following methods:

• Federal eRulemaking Portal: Go to www.regulations.gov/, insert the docket number (FMCSA-2025-0011) in the keyword box and click “Search.” Next, choose the only notice listed, and click on the “Comment” button. Follow the online instructions for submitting comments.

• Mail: Dockets Operations; U.S. Department of Transportation, 1200 New Jersey Avenue SE, West Building Ground Floor, Washington, DC 20590-0001.

• Hand Delivery: West Building Ground Floor, 1200 New Jersey Avenue SE, Washington, DC 20590-0001 between 9 a.m. and 5 p.m. ET Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, FMCSA, DOT, 1200 New Jersey Avenue SE, Washington, DC 20590-0001, (202) 366-4001, fmcsamedical@dot.gov. Office hours are 8:30 a.m. to 5 p.m. ET Monday through Friday, except Federal holidays. If you have questions regarding viewing or submitting material to the docket, contact Dockets Operations, (202) 366-9826.

SUPPLEMENTARY INFORMATION:

I. Public Participation

A. Submitting Comments

If you submit a comment, please include the docket number for this notice (Docket No. FMCSA-2025-0011), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2025-0011. Next, choose the only notice listed, click the “Comment” button, and type your comment into the text box on the following screen. Choose whether you are submitting your comment as an individual or on behalf of a third party and then submit.

If you submit your comments by mail or hand delivery, submit them in an unbound format, no larger than 8½ by 11 inches, suitable for copying and electronic filing. FMCSA will consider all comments and material received during the comment period.

B. Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

C. Viewing Comments

To view comments, go to www.regulations.gov, insert the docket number (FMCSA-2025-0011) in the keyword box and click “Search.” Next, choose the only notice listed, and click “Browse Comments.” If you do not have access to the internet, you may view the docket online by visiting Dockets Operations on the ground floor of the DOT West Building, 1200 New Jersey Avenue SE, Washington, DC 20590-0001, between 9 a.m. and 5 p.m. ET Monday through Friday, except Federal holidays. To be sure someone is there to help you, please call (202) 366-9317 or (202) 366-9826 before visiting Dockets Operations.

D. Privacy Act

In accordance with 49 U.S.C. 31315(b)(6), DOT solicits comments from the public on the exemption request. DOT posts these comments, including any personal information the commenter provides, to www.regulations.gov, as described in the system of records notice DOT/ALL-14 FDMS (Federal Docket Management System), which can be reviewed under the “Department Wide System of Records Notices” link at https://www.transportation.gov/individuals/privacy/privacy-act-system-records-notices. The comments are posted without edit and are searchable by the name of the submitter.

II. Legal Basis

FMCSA has authority under 49 U.S.C. 31136(e) and 31315(b) to grant exemptions from Federal Motor Carrier Safety Regulations (FMCSRs). FMCSA must publish a notice of each exemption request in the Federal Register (49 CFR 381.315(a)). The Agency must provide the public an opportunity to inspect the information relevant to the application, including the applicant's safety analysis. The Agency must provide an opportunity for public comment on the request.

The Agency reviews safety analyses and public comments submitted and determines whether granting the exemption would likely achieve a level of safety equivalent to, or greater than, the level that would be achieved absent such exemption, pursuant to the standard set forth in 49 U.S.C. 31315(b)(1). The Agency must publish its decision in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)). FMCSA grants medical exemptions from the FMCSRs for a 2-year period to align with the maximum duration of a driver's medical certification.

III. Background

The physical qualification standard for drivers regarding seizures and loss of consciousness provides that a person is physically qualified to drive a CMV if that person has “no established medical history or clinical diagnosis of epilepsy or any other condition which is likely to cause the loss of consciousness or any loss of ability to control” a CMV (49 CFR 391.41(b)(8)). To assist in applying this standard, FMCSA publishes guidance for medical examiners (ME) in the form of medical advisory criteria in Appendix A to 49 CFR part 391.¹ In 2007, FMCSA published recommendations from a Medical Expert Panel (MEP) that FMCSA tasked to review the existing seizure disorder guidelines for MEs.² The MEP performed a comprehensive, systematic literature review, including evidence available at the time. The MEP issued recommended criteria to evaluate whether an individual with a history of epilepsy, a single unprovoked seizure, or a provoked seizure should be allowed to drive a CMV.

¹ 49 CFR part 391, app.A.II.G, available at https://www.ecfr.gov/current/title-49/subtitle-B/chapter-III/subchapter-B/part-391/appendix-Appendix%20A%20to%20Part%20391.

² “Expert Panel Recommendations, Seizure Disorders and Commercial Motor Vehicle Driver Safety,” Medical Expert Panel (Oct. 15, 2007), available at https://www.fmcsa.dot.gov/sites/fmcsa.dot.gov/files/2020-04/Seizure-Disorders-MEP-Recommendations-v2-prot%2010152007.pdf.

On January 15, 2013, FMCSA began granting exemptions, on a case-by-case basis, to individual drivers from the physical qualification standard regarding seizures and loss of consciousness in 49 CFR 391.41(b)(8) (78 FR 3069). The Agency considers the medical advisory criteria, the 2007 MEP recommendations, and each individual's medical information and driving record in deciding whether to grant the exemption.

The 35 individuals listed in this notice have requested an exemption from the epilepsy and seizure disorders prohibition in 49 CFR 391.41(b)(8). Accordingly, the Agency will evaluate the qualifications of each applicant to determine whether granting the exemption will achieve the required level of safety mandated by statute.

IV. Qualifications of Applicants

Shane Addy

Shane Addy is a 24-year-old class C license holder in Pennsylvania. They have a history of epilepsy and have been seizure free since 2009. They take anti-seizure medication with the dosage and frequency remaining the same since 2010. Their physician states that they are supportive of Shane Addy receiving an exemption.

Erik Bernal

Erik Bernal is a 39-year-old class C license holder in Wyoming. They have a history of focal epilepsy and have been seizure free since 2017. They take anti-seizure medication with the dosage and frequency remaining the same since March 2020. Their physician states that they are supportive of Erik Bernal receiving an exemption.

Benjamin Billat

Benjamin Billat is a 37-year-old class D license holder in Minnesota. They have a history of provoked seizures and have been seizure free since August 28, 2019. They take anti-seizure medication with the dosage and frequency remaining the same for over two years. Their physician states that they are supportive of Benjamin Billat receiving an exemption.

Linda Bradt

Linda Bradt is a 50-year-old class C commercial driver's license (CDL) holder in New York. They have a history of epilepsy and have been seizure free since 2016. They take anti-seizure medication with the dosage and frequency remaining the same since September 2023. Their physician states that they are supportive of Linda Bradt receiving an exemption.

Stephen Carlson

Stephen Carlson is a 21-year-old class C chauffer's license holder in Michigan. They have a history of childhood absence epilepsy and have been seizure free since 2012. They have not taken anti-seizure medication since March 2015. Their physician states that they are supportive of Stephen Carlson receiving an exemption.

Nicholas Casillan

Nicholas Casillan is a 43-year-old class C license holder in California. They have a history of childhood epilepsy and have been seizure free since 2004. They take anti-seizure medication with the dosage and frequency remaining the same since 2004. Their physician states that they are supportive of Nicholas Casillan receiving an exemption.

Amanda Fisk

Amanda Fisk is a 38-year-old class B commercial learner's permit holder in Kansas. They have a history of epilepsy and have been seizure free since 2015. They take anti-seizure medication with the dosage and frequency remaining the same since August 6, 2015. Their physician states that they are supportive of Amanda Fisk receiving an exemption.

Richard Freys

Richard Freys is a 54-year-old class D license holder in Ohio. They have a history of idiopathic epilepsy and have been seizure free since February 2017. They take anti-seizure medication with the dosage and frequency remaining the same since 2017. Their physician states that they are supportive of Richard Freys receiving an exemption.

Jacob Griffin

Jacob Griffin is a 21-year-old class BCD CDL holder in Wisconsin. They have a history of rolandic epilepsy and have been seizure free since June 2014. They take anti-seizure medication with the dosage and frequency remaining the same since 2018. Their physician states that they are supportive of Jacob Griffin receiving an exemption.

Joseph Gwinnett

Joseph Gwinnett is a 44-year-old class D license holder in New Jersey. They have a history of epilepsy and have been seizure free since 2015. They take anti-seizure medication with the dosage and frequency remaining the same since 2021. Their physician states that they are supportive of Joseph Gwinnett receiving an exemption.

Carter Hunt

Carter Hunt is a 25-year-old class C license holder in North Carolina. They have a history of localization-related symptomatic epilepsy and have been seizure free since 2014. They take anti-seizure medication with the dosage and frequency remaining the same since October 2022. Their physician states that they are supportive of Carter Hunt receiving an exemption.

Ryan Jaacks

Ryan Jaacks is a 24-year-old class C license holder in Iowa. They have a history of partial symptomatic epilepsy and have been seizure free since 2009. They take anti-seizure medication with the dosage and frequency remaining the same since 2009. Their physician states that they are supportive of Ryan Jaacks receiving an exemption.

Scott Jensen

Scott Jensen is a 30-year-old class D regular license holder in Wisconsin. They have a history of generalized epilepsy and have been seizure free since March 6, 2014. They take anti-seizure medication with the dosage and frequency remaining the same since January 2023. Their physician states that they are supportive of Scott Jensen receiving an exemption.

Theodore Kemak

Theodore Kemak is a 39-year-old class A CDL holder in New York. They have a history of epilepsy and have been seizure free since 2012. They take anti-seizure medication with the dosage and frequency remaining the same since 2012. Their physician states that they are supportive of Theodore Kemak receiving an exemption.

Thomas Knight

Thomas Knight is a 59-year-old class A CDL holder in Georgia. They have a history of epilepsy and have been seizure free since 1991. They take anti-seizure medication with the dosage and frequency remaining the same for over 20 years. Their physician states that they are supportive of Thomas Knight receiving an exemption.

Kurtis Kuhl

Kurtis Kuhl is a 36-year-old class A CDL holder in Ohio. They have a history of seizures and have been seizure free since 2015. They take anti-seizure medication with the dosage and frequency remaining the same since 2015. Their physician states that they are supportive of Kurtis Kuhl receiving an exemption.

Rachel LaFraniere

Rachel LaFraniere is a 32-year-old class D license holder in Tennessee. They have a history of focal epilepsy and have been seizure free since 2017. They take anti-seizure medication with the dosage and frequency remaining the same since July 2023. Their physician states that they are supportive of Rachel LaFraniere receiving an exemption.

Matthew Lee

Matthew Lee is a 48-year-old class D license holder in Connecticut. They have a history of epilepsy and have been seizure free since 2006. They have not taken anti-seizure medication since November 2016. Their physician states that they are supportive of Matthew John Lee receiving an exemption.

Zachery Lieske

Zachery Lieske is a 22-year-old class D regular license holder in Wisconsin. They have a history of generalized epilepsy and have been seizure free since August 2016. They take anti-seizure medication with the dosage and frequency remaining the same since May 20, 2021. Their physician states that they are supportive of Zachery Lieske receiving an exemption.

Thomas Mercer

Thomas Mercer is a 46-year-old class C license holder in Georgia. They have a history of petit mal seizure disorder and have been seizure free since January 2, 2002. They take anti-seizure medication with the dosage and frequency remaining the same since 2002. Their physician states that they are supportive of Thomas Mercer receiving an exemption.

Elijah Morrisey

Elijah Morrisey is a 20-year-old class C license holder in North Carolina. They have a history of benign focal epilepsy and have been seizure free since 2016. They take anti-seizure medication with the dosage and frequency remaining the same since 2009. Their physician states that they are supportive of Elijah Morrissey receiving an exemption.

Sean O'Dwyer

Sean O'Dwyer is a 53-year-old class C license holder in North Carolina. They have a history of complex partial seizures and have been seizure free since 2012. They take anti-seizure medication with the dosage and frequency remaining the same since 2016. Their physician states that they are supportive of Sean O'Dwyer receiving an exemption.

Nikki Peyton

Nikki Peyton is a 36-year-old class A CDL holder in Indiana. They have a history of seizure disorder and have been seizure free since 2016. They take anti-seizure medication with the dosage and frequency remaining the same since January 21, 2019. Their physician states that they are supportive of Nikki Peyton receiving an exemption.

Joseph Platania

Joseph Platania is a 34-year-old class C license holder in Pennsylvania. They have a history of epilepsy and have been seizure free since April 2016. They take anti-seizure medication with the dosage and frequency remaining the same since April 2016. Their physician states that they are supportive of Joseph Platania receiving an exemption.

Nathan Porcher

Nathan Porcher is a 36-year-old class C license holder in Texas. They have a history of other seizures and have been seizure free since 2017. They take anti-seizure medication with the dosage and frequency remaining the same since April 19, 2024. Their physician states that they are supportive of Nathan Porcher receiving an exemption.

Samuel Porter

Samuel Porter is a 32-year-old class D license holder in Illinois. They have a history of tonic clonic seizures and have been seizure free since 2012. They take anti-seizure medication with the dosage and frequency remaining the same since 2023. Their physician states that they are supportive of Samuel Porter receiving an exemption.

Lorenzo Rivera

Lorenzo Rivera is a 22-year-old class D license holder in Ohio. They have a history of seizure disorder and have been seizure free since 2015. They have not taken anti-seizure medication since 2017. Their physician states that they are supportive of Lorenzo Rivera receiving an exemption.

Robert Rush

Robert Rush is a 49-year-old class CM1 license holder in California. They have a history of nonintractable epilepsy and have been seizure free since the early 2000s. They take anti-seizure medication with the dosage and frequency remaining the same since December 2022. Their physician states that they are supportive of Robert Rush receiving an exemption.

Ethan Seabury-Kolod

Ethan Seabury-Kolod is a 38-year-old class A CDL holder in Louisiana. They have a history of single unprovoked seizure and have been seizure free since January 2016. They have never taken anti-seizure medication. Their physician states that they are supportive of Ethan Seabury-Kolod receiving an exemption.

Michael Shea

Michael Shea is a 30-year-old class D license holder in New Jersey. They have a history of seizure disorder and have been seizure free since October 2015. They take anti-seizure medication with the dosage and frequency remaining the same since 2016. Their physician states that they are supportive of Michael Shea receiving an exemption.

Brittany Spicer

Brittany Spicer is a 34-year-old class D license holder in Virginia. They have a history of epilepsy and have been seizure free since 2009. They take anti-seizure medication with the dosage and frequency remaining the same since 2015. Their physician states that they are supportive of Brittany Spicer receiving an exemption.

Robert Stagg

Robert Stagg is a 46-year-old class CM1 license holder in California. They have a history of complex partial epilepsy and have been seizure free since October 2014. They take anti-seizure medication with the dosage and frequency remaining the same since August 2015. Their physician states that they are supportive of Robert Stagg receiving an exemption.

Jeremy Steele

Jeremy Steele is a 33-year-old class D license holder in Delaware. They have a history of a single unprovoked seizure and have been seizure free since February 2021. They take anti-seizure medication with the dosage and frequency remaining the same since March 2021. Their physician states that they are supportive of Jeremy Steele receiving an exemption.

Rodney Taylor

Rodney Taylor is a 54-year-old class C license holder in North Carolina. They have a history of seizure disorder and have been seizure free since 2012. They take anti-seizure medication with the dosage and frequency remaining the same since 2012. Their physician states that they are supportive of Rodney Taylor receiving an exemption.

Alfonso Valdivieso

Alfonso Valdivieso is a 61-year-old class A CDL holder in New York. They have a history of focal epilepsy and have been seizure free since March 2011. They take anti-seizure medication with the dosage and frequency remaining the same since 2015. Their physician states that they are supportive of Alfonso Valdivieso receiving an exemption.

V. Request for Comments

In accordance with 49 U.S.C. 31136(e) and 31315(b), FMCSA requests public comment from all interested persons on the exemption petitions described in this notice. FMCSA will consider all comments received before the close of business on the closing date indicated under the DATES section of the notice.

Larry W. Minor,
Associate Administrator for Policy.

[FR Doc. 2025-07766 Filed 5-2-25; 8:45 am]

BILLING CODE 4910-EX-P